SUSQUEHANNA RIVER BASIN COMMISSION

18 CFR Part 801

General Policies

AGENCY: Susquehanna River Basin Commission.

ACTION: Final rule.

SUMMARY: This document contains rules that amend the regulations of the Susquehanna River Basin Commission (Commission) to codify the Commission's Access to Records Policy providing rules and procedures for the public to request and receive the Commission's public records.

DATES: The rule is effective March 19, 2018.

ADDRESSES: Susquehanna River Basin Commission, 4423 N Front Street, Harrisburg, PA 17110-1788.

FOR FURTHER INFORMATION CONTACT: Jason E. Oyler, Esq., General Counsel, 717-238-0423, ext. 1312; joyler@srbc.net. Also, for further information on the final rule, visit the Commission's website at http://www.srbc.net.

SUPPLEMENTARY INFORMATION: Notice of proposed rulemaking was published in the Federal Register on October 12, 2017 (82 FR 47407); New York Register on October 25, 2017; Pennsylvania Bulletin on October 21, 2017; and Maryland Register on October 27, 2017. The Commission convened a public hearing on November 2, 2017, in Harrisburg, Pennsylvania. A written comment period was held open through November 13, 2017.

The Commission received one comment on the proposed rule, which was supportive of the Commission's efforts to formalize its Access to Records Policy. The Commission also received two comments after the close of the official public comment period suggesting some changes to rulemaking.

Based upon input from the Commission's member jurisdictions, subsection (b)(4) is amended and a new subsection (f) is added to create an exception to records subject to public access for those internal, pre-decisional deliberations between staff and member jurisdictions working in cooperation with the Commission. The Commission will also modify § 801.14(b)(1) to clarify that it does not prohibit the Commission from providing salary information in response to records requests, as the Commission has historically released these records upon request. Section 801.14(b)(8) is also modified to exclude the provision of financial documents related to critical infrastructure.

Based on public input the Commission clarifies the following:

• The Commission does intend to review and revisit its Access to Records Policy after adoption of the final rule to update its procedures.

• The final rule, § 801.14(c)(3), provides that the Commission must respond in a reasonable time frame. The Commission works with requesters and generally responds to records requests within 30 days of the request. The reasonable timeframe language allows the Commission to deal with requests varying in complexity and magnitude while continuing to balance prompt access to records with the agency's other obligations and limitations.

Through this final rule, the Commission continues its long tradition of transparency by formalizing the key elements of its Access to Records Policy in duly promulgated regulations. The Commission's 2009 Access to Records Policy, which remains in effect, can be found at: http://www.srbc.net/pubinfo/docs/2009-02_Access_to_Records_Policy_20140115.pdf. The Commission's current records processing fee schedule can be found at: http://www.srbc.net/pubinfo/docs/RecordsProcessingFeeScheduleUpdatedAddress.pdf.

List of Subjects in 18 CFR Part 801

Administrative practice and procedure, Water resources.

Accordingly, for the reasons set forth in the preamble, the Susquehanna River Basin Commission amends 18 CFR part 801 as follows:

PART 801—GENERAL POLICIES

1. The authority citation for part 801 is revised to read as follows:

Authority: Secs. 3.1, 3.4, 3.5(1), 15.1 and 15.2, Pub. L. 91-575 (84 Stat. 1509 et seq.).

2. Add § 801.14 to read as follows:

§ 801.14 Public access to records.

(a) Purpose. The Commission, as an independent compact agency, is not subject to any of its member jurisdictions' laws regarding public access to records. Nevertheless, the Commission wishes to assure, to the maximum extent practicable, the availability of Commission records consistent with the Susquehanna River Basin Compact. The Commission shall maintain an “Access to Records Policy” that outlines the details and procedures related to public access to the Commission's records. Any revisions to this policy shall be consistent with this section and undertaken in accordance with appropriate public notice and comment consistent with requirements of 18 CFR 808.1(b).

(b) Scope. This section shall apply to all recorded information, regardless of whether the information exists in written or electronic format. There is a strong presumption that records shall be public, except where considerations of privacy, confidentiality, and security must be considered and require thoughtful balancing. The Commission shall identify types of records that are not subject to public access:

(1) Personnel or employment records, excluding salary information;

(2) Trade secrets, copyrighted material, or any other confidential business information;

(3) Records exempted from disclosure by statute, regulation, court order, or recognized privilege;

(4) Records reflecting internal pre-decisional deliberations, including deliberations between the commission and representatives of member jurisdictions;

(5) Records reflecting employee medical information, evaluations, tests or other identifiable health information;

(6) Records reflecting employee personal information, such as social security number, driver's license number, personal financial information, home addresses, home or personal cellular numbers, confidential personal information, spouse names, marital status or dependent information;

(7) Investigatory or enforcement records that would interfere with active enforcement proceedings or individual due process rights, disclose the identity of public complainants or confidential sources or investigative techniques or endanger the life or safety of Commission personnel; or

(8) Records related to critical infrastructure, excluding financial records, emergency procedures, or facilities.

(c) Procedures. The Access to Records Policy will detail the necessary procedures for requesting records and processing records requests:

(1) Requests shall be in writing and shall be reasonably specific;

(2) The Commission shall identify an Access to Records Officer to handle requests;

(3) The Commission shall respond to a records request within a reasonable time and in consideration of available resources and the nature of the request;

(4) The Commission shall not be required to create a record that does not already exist, or to compile, maintain, format or organize a public record in a manner in which the Commission does not currently practice;

(5) A procedure shall be identified for electronic transfer, copying or otherwise providing records in a manner that maintains the integrity of the Commission's files; and

(6) A procedure shall be identified for handling review of requests that seek access to information that has been identified as confidential and for notifying the person(s) who submitted the confidential information that it is subject to a records request.

(d) Fees. The Commission shall adopt and maintain a “Records Processing Fee Schedule.” The fees shall be calculated to reflect the actual costs to the Commission for processing records requests and may include the costs of reproducing records and the cost to search, prepare and/or redact records for extraordinary requests.

(e) Appeals. Any person aggrieved by a Commission action on a records request shall have 30 days to appeal a decision in accordance with 18 CFR 808.2.

(f) Disclosure to consultants, advisory committees, and State and local government officials and employees. Data and information otherwise exempt from public disclosure may be disclosed to Commission consultants, advisory committees, and state and local government officials and employees for use only in their work in cooperation with the Commission. Such persons are thereafter subject to the same restrictions with respect to the disclosure of such data and information as any other Commission employee.

Dated: March 13, 2018.
Stephanie L. Richardson,
Secretary to the Commission.

[FR Doc. 2018-05425 Filed 3-16-18; 8:45 am]

BILLING CODE 7040-01-P